NATIONAL COUNCIL ON DISABILITY

Notice of Sunshine Act Meetings; Correction

SUMMARY: The National Council on Disability published a notice in the Federal Register of October 3, 2012, concerning a meeting of the Council. This document contains an amendment to that notice, regarding NCD's request that in-person participants to the meeting refrain from use of scented products in consideration of those with multiple chemical sensitivities.

CONTACT PERSON FOR MORE INFORMATION: Anne Sommers, NCD, 1331 F Street NW., Suite 850, Washington, DC 20004; 202-272-2004 (V), 202-272-2074 (TTY).

In the Federal Register of October 3, 2012, in FR Doc. 2012-24449, beginning on page 60476, in the third column, amend the PLACE caption to read in full:

PLACE: The meeting will occur in-person at K&L Gates law firm, 1601 K Street NW., at the corner of 16th and K Streets, Washington, DC 20006. Interested parties may join the meeting in person or may join the phone line in a listening-only capacity (with the exception of the public comment period) using the following call-in number: 1-888-438-5453; Passcode: 7040549. If asked, the conference call leader's name is Aaron Bishop.

Please note: To help reduce exposure to fragrances for those with multiple chemical sensitivities, NCD requests that all those attending the meeting in person please refrain from wearing scented personal care products such as perfumes, hairsprays, colognes, and deodorants.

Dated: October 3, 2011.
Aaron Bishop,
Executive Director.

[FR Doc. 2012-24795 Filed 10-3-12; 4:15 pm]

BILLING CODE 6820-MA-P